DEPARTMENT OF THE INTERIOR

Fish and Wildlife Service

[FWS-HQ-MB-2023-N030; FF09M30000-234-FXMB12320900000; OMB Control Number 1018-0167]

Agency Information Collection Activities; Submission to the Office of Management and Budget for Review and Approval; Eagle Take Permits and Fees

AGENCY: Fish and Wildlife Service, Interior.

ACTION: Notice of information collection; request for comment.

SUMMARY: In accordance with the Paperwork Reduction Act of 1995, we, the U.S. Fish and Wildlife Service (Service), are proposing to renew, without change, an information collection.

DATES: Interested persons are invited to submit comments on or before April 26, 2023.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0167” in the subject line of your comments.

FOR FURTHER INFORMATION CONTACT: To request additional information about this ICR, contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On January 13, 2023, we published in the Federal Register (88 FR 2369) a notice of our intent to request that OMB approve this information collection. In that notice, we solicited comments for 60 days, ending on March 14, 2023. In an effort to increase public awareness of, and participation in, our public commenting processes associated with information collection requests, the Service also published the Federal Register notice on Regulations.gov (Docket FWS-HQ-MB-2023-0009) to provide the public with an additional method to submit comments (in addition to the typical Info_Coll@fws.gov email and U.S. mail submission methods). We received the following comments in response to that notice:

Comment 1: Electronic comment received January 14, 2023 from Jean Publiee via Regulations.gov (FWS-HQ-MB-2023-0009-0002). The commenter did not address the information collection requirements.

Agency Response to Comment 1: No response required.

Comment 2: Anonymous electronic comment received March 13, 2023 via Regulations.gov (FWS-HQ-MB-2023-0009-0003). The commenter did not address the information collection requirements.

Agency Response to Comment 2: No response required.

Comment 3: Electronic comment received March 13, 2023 from Kelsey Royce via Regulations.gov (FWS-HQ-MB-2023-0009-0004). The commenter requested an extension on the 60-day comment period of this notice.

Agency Response to Comment 3: We declined to grant the extension due to the upcoming expiration date of this existing information collection. We will inform the commenter when the 30-day comment period opens for the renewal of this information collection, and we will also notify them for the opening of the comment period for the final rule.

Comment 4: Electronic comment received March 14, 2023 from Brooke Marcus with the Energy and Wildlife Action Coalition via Regulations.gov (FWS-HQ-MB-2023-0009-0005). The commenter provided comments addressing the Service's proposed rule (RIN 1018-BE70; Docket No. FWS-HQ-MB-2020-0023) and did not address the current information collection requirements in this notice.

Agency Response to Comment 4: The comments provided are outside the scope of this notice and appear to be in response to the proposed rulemaking. We will inform the commenter when the 30-day comment period opens for the renewal of this information collection, and we will also notify them for the opening of the comment period for the final rule.

Comment 5: Comment received March 15, 2023 from Evan Inman via email. The commenter requested an extension on the 60-day comment period of this notice.

Agency Response to Comment 5: We declined to grant the extension due to the upcoming expiration date of this existing information collection. We will inform the commenter when the 30-day comment period opens for the renewal of this information collection, and we will also notify them for the opening of the comment period for the final rule.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Bald and Golden Eagle Protection Act (Eagle Act; 16 U.S.C. 668-668d) prohibits take of bald eagles and golden eagles except pursuant to Federal regulations. The Eagle Act regulations at title 50, part 22 of the Code of Federal Regulations (CFR) define the “take” of an eagle to include the following broad range of actions: To “pursue, shoot, shoot at, poison, wound, kill, capture, trap, collect, destroy, molest, or disturb.” The Eagle Act allows the Secretary of the Interior to authorize certain otherwise prohibited activities through regulations.

All Service permit applications associated with eagles are in the 3-200 and 3-202 series of forms, each tailored to a specific activity based on the requirements for specific types of permits. We collect standard identifier information for all permits. The information that we collect on applications and reports is the minimum necessary for us to determine if the applicant meets/continues to meet issuance requirements for the particular activity.

The Service proposes to renew this information collection, without change, in order to extend the expiration date for the collection (currently July 31, 2023) while the Service continues to finalize our rulemaking under RIN 1018-BG70, Permits for Incidental Take of Eagles and Eagle Nests. On September 30, 2022, we published the proposed rule (87 FR 59598) to revise the regulations authorizing the issuance of permits for eagle incidental take and eagle nest take to increase the efficiency and effectiveness of permitting, facilitate and improve compliance, and increase the conservation benefit for eagles. The comment period for the proposed rule ended on November 29, 2022. On November 28, 2022, we extended the proposed rule's comment period to December 29, 2022 (87 FR 72957). We received no comments addressing the information collection requirements.

In addition to continuing to authorize specific permits, the proposed rule, if finalized as written, would create general permits for certain activities under prescribed conditions (qualifying wind-energy generation projects, power line infrastructure, activities that may disturb breeding bald eagles, and bald eagle nest take). It also would remove the current third-party monitoring requirement for eagle incidental take permits, update current permit fees, and clarify definitions. We anticipate publication of the final rule under RIN 1018-BE70 in late 2023 or early 2024.

The public may request copies of any form contained in this information collection by sending a request to the Service Information Collection Clearance Officer (see ADDRESSES).

Title of Collection: Eagle Permits, 50 CFR 22.

OMB Control Number: 1018-0167.

Form Numbers: Forms 3-200-14, 3-200-15a, 3-200-16, 3-200-18, 3-200-71, 3-200-72, 3-200-77, 3-200-78, 3-200-82, 3-200-11 through 3-200-16, 3-1552, 3-1591, and 3-2480.

Type of Review: Extension without change of a currently approved collection.

Respondents/Affected Public: Individuals and businesses. We expect that the majority of applicants seeking long-term permits will be in the energy production and electrical distribution business sectors.

Total Estimated Number of Annual Respondents: 4,068.

Total Estimated Number of Annual Responses: 4,318.

Estimated Completion Time per Response: Varies from 15 minutes to 228 hours, depending on activity.

Total Estimated Number of Annual Burden Hours: 25,894.

Respondent's Obligation: Required to obtain or retain a benefit.

Frequency of Collection: On occasion for applications; annually or on occasion for reports.

Total Estimated Annual Nonhour Burden Cost: $1,369,200 (primarily associated with application processing fees).

An agency may not conduct or sponsor and a person is not required to respond to a collection of information unless it displays a currently valid OMB control number.

The authority for this action is the Paperwork Reduction Act of 1995 (44 U.S.C. 3501 et seq.).

Signed:

Madonna Baucum,
Information Collection Clearance Officer, U.S. Fish and Wildlife Service.

[FR Doc. 2023-06240 Filed 3-24-23; 8:45 am]

BILLING CODE 4333-15-P